DEPARTMENT OF DEFENSE

Department of the Navy

Meeting of the Board of Visitors of Marine Corps University

AGENCY: Department of the Navy, DoD.

ACTION: Notice of open meeting.

SUMMARY: The Board of Visitors of the Marine Corps University (BOV MCU) will meet to review, develop and provide recommendations on all aspects of the academic and administrative policies of the University; examine all aspects of professional military education operations; and provide such oversight and advice as is necessary to facilitate high educational standards and cost effective operations. The Board will be focusing primarily on the University's progress in meeting the 2005 Southern Association of Colleges and Schools accreditation requirements and the quality enhancement plan. The Board will be apprised of the status of Academic Chairs and briefed on recent developments at Marine Corps University, including developments in the presidency of the institution. All sessions of the meeting will be open to the public.

DATES: The meeting will be held on Thursday, April 22, 2004, from 8 a.m. to 5 p.m. and on Friday, April 23, 2004, from 8 a.m. to 11:30 a.m.

ADDRESSES: The meeting will be held at the Alfred M. Gray Marine Corps Research Center in Rooms 164 and 165. The address is 2040 Broadway Street, Quantico, VA 22134.

FOR FURTHER INFORMATION CONTACT: Mary Lanzillotta, Executive Secretary, Marine Corps University Board of Visitors, 2076 South Street, Quantico, Virginia 22134, telephone number (703) 784-4037.

Dated: March 16, 2004.
S. K. Melancon,
Paralegal Specialist, Office of the Judge Advocate General, Alternate Federal Register Liaison Officer.

[FR Doc. 04-6885 Filed 3-26-04; 8:45 am]

BILLING CODE 3810-FF-P